DEPARTMENT OF TRANSPORTATION

Federal Aviation Administration

14 CFR Part 71

[Docket No. FAA-2022-1455; Airspace Docket No. 21-AWP-42]

RIN 2120-AA66

Proposed Amendment of Class D and E Airspace; Lemoore Naval Air Station (NAS) (Reeves Field), CA

AGENCY: Federal Aviation Administration (FAA), DOT.

ACTION: Notice of proposed rulemaking (NPRM).

SUMMARY: This action proposes to modify the Class D and E surface airspace at the airport, remove the Class E airspace designated as an extension to a Class D or E surface area, remove the Class E airspace extending from 1,200 feet above the surface, modify the Class E airspace extending from 700 feet above the surface of the earth, and it will also propose several administrative changes to update the airport's legal description. This action would support the safety and management of instrument flight rules (IFR) and visual flight rules (VFR) operations at the airport.

DATES: Comments must be received on or before January 30, 2023.

ADDRESSES: Send comments on this proposal to the U.S. Department of Transportation, Docket Operations, 1200 New Jersey Avenue SE, West Building Ground Floor, Room W12-140, Washington, DC 20590; telephone: 1-800-647-5527, or (202) 366-9826. You must identify Docket No. FAA-2022-1455; Airspace Docket No. 21-AWP-42, at the beginning of your comments. You may also submit comments through the internet at www.regulations.gov.

FAA Order JO 7400.11G, Airspace Designations and Reporting Points, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Raphell P. Taylor, Federal Aviation Administration, Western Service Center, Operations Support Group, 2200 S 216th Street, Des Moines, WA 98198; telephone (405) 666-1176.

SUPPLEMENTARY INFORMATION:

Authority for This Rulemaking

The FAA's authority to issue rules regarding aviation safety is found in Title 49 of the United States Code (U.S.C.). Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would amend Class D and E airspace at Lemoore NAS, CA, to support the safety and management of IFR and VFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2022-1455; Airspace Docket No. 21-AWP-42.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at www.regultions.gov. Recently published rulemaking documents can also be accessed through the FAA's web page at www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 2200 S 216th Street, Des Moines, WA 98198.

Availability and Summary of Documents for Incorporation by Reference

This document proposes to amend FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Proposal

The FAA is proposing an amendment to Title 14 CFR part 71 that would modify the Class D and E surface areas, remove the Class E airspace area designated as an extension to a Class D or Class E surface area, remove the Class E airspace extending upward from 1,200 feet above the surface, and modify the Class E airspace extending upward from 700 feet above the surface at Lemoore NAS.

The radius of the Class D surface airspace should be increased to 5.4 miles (previously 5.2 miles), which would more appropriately contain IFR departure operations while between the surface and the base of adjacent controlled airspace.

The Class E2 airspace should be modified to be coincident with the Class D airspace legal description.

The Class E4 airspace at the airport should be removed. The proposed lateral boundaries of the Class D and E2 surface areas are sufficient to contain IFR aircraft on instrument approaches when less than 1,000 feet above the surface.

The north and southeast extensions to the Class E5 airspace extending upward from 700 feet above the surface are no longer needed and should be removed. A Class E5 area extending upward from 700 feet above the surface within a 7.9-mile radius airspace area about the airport is sufficient to contain IFR arrivals descending below 1,500 feet above the surface and IFR departures to 1,200 feet above the surface.

The Class E5 airspace extending upward from 1,200 feet above the surface at the airport should be removed as the area is already contained within the Sacramento Class E domestic en route airspace, and duplication is not necessary.

Additionally, the FAA proposes administrative modifications to the airport's legal descriptions. The term “NAS” is not associated with the correct city information in the first line of the text header in the Class D and E2 legal descriptions, and it should be removed. The terms “Notice to Airmen” and “Airport/Facility Directory” in the Class D and E2 airspace descriptions should be updated to read “Notice to Air Missions” and “Chart Supplement,” respectively, to match the FAA's current nomenclature. The airport name in the second line of the legal description text headers should be corrected. The name “LeMoore” should be replaced with “Lemoore,” to more accurately describe the airport. The third line of the text header currently references the Lemoore NAS Tactical Air Navigation (TACAN) navigational aid, but should list the airport's geographic coordinates instead, as it simplifies the airspace's legal description. This line should read “(lat. 36°19′59″ N, long. 119°57′08″ W).” and the reference to the Lemoore NAS TACAN should be removed, as it is no longer needed to describe the airspace.

Class D, E2, E4, and E5 airspace designations are published in paragraphs 5000, 6002, 6004, and 6005, respectively, of FAA Order JO 7400.11G, dated August 19, 2022, and effective September 15, 2022, which is incorporated by reference in 14 CFR 71.1. The Class D and Class E airspace designations listed in this document will be published subsequently in FAA Order JO 7400.11, which is published yearly and becomes effective on September 15. FAA Order JO 7400.11, Airspace Designations and Reporting Points is published yearly and effective on September 15.

Regulatory Notices and Analyses

The FAA has determined that this regulation only involves an established body of technical regulations for which frequent and routine amendments are necessary to keep them operationally current, is non-controversial and unlikely to result in adverse or negative comments. It, therefore: (1) is not a “significant regulatory action” under Executive Order (E.O.) 12866; (2) is not a “significant rule” under DOT regulatory policies and procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, Environmental Impacts: Policies and Procedures, prior to any FAA final regulatory action.

List of Subjects in 14 CFR Part 71

Airspace, Incorporation by Reference, Navigation (air).

The Proposed Amendment

Accordingly, pursuant to the authority delegated to me, the FAA proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 20122 is amended as follows:

Paragraph 5000 Class D Airspace.

* * * * *

AWP CA D Lemoore, CA [Amended]

Lemoore NAS (Reeves Field), CA

(Lat. 36°19′59″ N, long. 119°57′08″ W)

That airspace extending upward from the surface to and including 2,700 feet MSL within a 5.4-mile radius of the airport. This Class D airspace area is effective during the specific dates and times established in advance by a Notice to Air Missions. The effective date and time will thereafter be continuously published in the Chart Supplement.

* * * * *

Paragraph 6002 Class E Airspace Areas Designated as a Surface Area.

* * * * *

AWP CA E2 Lemoore, CA [Amended]

Lemoore NAS (Reeves Field), CA

(Lat. 36°19′59″ N, long. 119°57′08″ W)

That airspace extending upward from the surface within a 5.4-mile radius of the airport. This Class E airspace area is effective during the specific dates and times established in advance by a Notice to Air Missions. The effective date and time will thereafter be continuously published in the Chart Supplement.

* * * * *

Paragraph 6004 Class E Airspace Areas Designated as an Extension to a Class D or Class E Surface Area.

* * * * *

AWP CA E4 Lemoore NAS, CA [Removed]

Lemoore NAS (Reeves Field), CA

(Lat. 36°19′59″ N, long. 119°57′08″ W)

Lemoore TACAN

(Lat. 36°20′39″ N, long. 119°57′59″ W)

That airspace extending upward from the surface within 1.8 miles each side of the Lemoore TACAN 335° and 357° radials, extending from the 5.2-mile radius of Lemoore NAS (Reeves Field) to 7 miles northwest and north of the TACAN, and within 1.8 miles each side of the Lemoore TACAN 155° radial, extending from the 5.2-mile radius to 7 miles southeast of the TACAN.

* * * * *

Paragraph 6005 Class E Airspace Areas Extending Upward From 700 Feet or More Above the Surface of the Earth.

* * * * *

AWP CA E5 Lemoore, CA [Amended]

Lemoore NAS (Reeves Field), CA

(Lat. 36°19′59″ N, long. 119°57′08″ W)

That airspace extending upward from 700 feet above the surface within a 7.9-mile radius of the airport.

* * * * *

Issued in Des Moines, Washington, on December 8, 2022.
B.G. Chew,
Group Manager, Operations Support Group, Western Service Center.

[FR Doc. 2022-27250 Filed 12-15-22; 8:45 am]

BILLING CODE 4910-13-P